DEPARTMENT OF THE INTERIOR

National Park Service

Selma to Montgomery National Historic Trail Advisory Council; Notice of Meeting

Notice is hereby given in accordance with the Federal Advisory Committee Act, Public Law 92-463, that a meeting of the Selma to Montgomery National Historic Trail Advisory Council will be held Thursday, October 23, 2008 at 9 a.m. until 2 p.m., at the H. Councill Trenholm State Technical College, Library Tower—Video Conference Room 317, 3086 Mobile Highway in Montgomery, AL. The Selma to Montgomery National Historic Trail Advisory Council was established pursuant to Public Law 100-192 establishing the Selma to Montgomery National Historic Trail. This Council was established to advise the National Park Service on such issues as preservation of trail routes and features, public use, standards for posting and maintaining trail markers, and administrative matters.

The matters to be discussed include:

(A) Update on trail projects.

(B) Updates on the Montgomery Interpretive Center proposed sites.

(C) Close out of the Committee.

The meeting will be open to the public. However, facilities and space for accommodating members of the public are limited and persons will be accommodated on first come, first serve basis. Anyone may file a written statement with Catherine F. Light, Trail Superintendent concerning the matters to be discussed.

Persons wishing further information concerning this meeting may contact Catherine F. Light, Trail Superintendent, Selma to Montgomery National Historic Trail, at 334.727.6390 (phone), 334.727.4597 (fax) or mail 1212 West Montgomery Road, Tuskegee Institute, Alabama 36088. Or call Jim Heaney, Program Manager at 334-877-1984.

Dated: August 19, 2008.
Catherine F. Light,
Selma to Montgomery National Historic Trail, Superintendent.

[FR Doc. E8-21130 Filed 9-18-08; 8:45 am]

BILLING CODE 4310-04-P